DEPARTMENT OF STATE

[Public Notice 5644]

60-Day Notice of Proposed Information Collection: DS-5501, Electronic Diversity Visa Entry Form, OMB Control Number 1405-0153

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Electronic Diversity Visa Entry Form.

• OMB Control Number: 1405-0153.

• Type of Request: Extension of Currently Approved Collection.

• Originating Office: Bureau of Consular Affairs, Office of Visa Services (CA/VO).

• Form Number: DS-5501.

• Respondents: Aliens entering the Diversity Visa Lottery.

• Estimated Number of Respondents: 6 million per year.

• Estimated Number of Responses: 6 million per year.

• Average Hours Per Response: 30 minutes.

• Total Estimated Burden: 3 million hours per year.

• Frequency: Once per entry.

• Obligation to Respond: Required to Obtain Benefits.

DATES: The Department will accept comments from the public up to 60 days from December 14, 2006.

ADDRESSES: You may submit comments by any of the following methods:

• E-mail: VisaRegs@state.gov (Subject line must read DS-5501 Reauthorization).

• Mail (paper, disk, or CD-ROM submissions): Chief, Legislation and Regulations Division, Visa Services—DS-5501 Reauthorization, 2401 E Street, NW., Washington DC 20520-30106.

• Fax: (202) 663-3898

You must include the DS form number, information collection title, and OMB control number in any correspondence.

FOR FURTHER INFORMATION CONTACT: Direct requests for additional information regarding the collection listed in this notice, including requests for copies of the proposed information collection and supporting documents, to Andrea Lage of the Office of Visa Services, U.S. Department of State, 2401 E Street, NW. L-603, Washington, DC 20522, who may be reached at (202) 663-1399 or lageab@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

The Department of State utilizes the Electronic Diversity Visa Lottery (EDV) Entry Form to elicit information necessary to ascertain the applicability of the legal provisions of the diversity program. Primary requirements are that the applicant is from a low admission country, is a high school graduate, or has two years of experience in a job that requires two years of training. The individuals complete the electronic entry forms and then applications are randomly selected for participation in the program.

Methodology:

The EDV Entry Form is available online at http://www.dvlottery.state.gov and can only be submitted electronically during the annual registration period.

Dated: November 14, 2006.
Stephen A. Edson,
Deputy Assistant Secretary, Bureau of Consular Affairs, Department of State.

[FR Doc. E6-21307 Filed 12-13-06; 8:45 am]

BILLING CODE 4710-06-P